DEPARTMENT OF HEALTH AND HUMAN SERVICES

Office of the Secretary

Agency Information Collection Activities; Proposed Collections; Comments Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office ant (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: 1. Responsibilities of Awardees and Applicant Institutions for Reporting Possible Misconduct in Science (42 CFR part 50 subpart A)—0937-0198—Extension—As required by section 493 of the Public Health Service Act, the Secretary by regulation shall require that applicant and awardee institutions receiving PHS funds must investigate and report instances of alleged or apparent misconduct in science. Respondents: State and local governments, business or other for-profit, non-profit institutions—Reporting Burden Information—Number of Respondents: 3330; Number of Annual Responses: 3,430; Average Burden per Response: .273 hours; Total Reporting Burden: 938 hours—Disclosure Burden Information—Number of Respondents; 3330; Number of Annual Responses; 3390; Average Burden per Response: .5 hours; Total Disclosure Burden: 1,695 hours—Recordkeeping Burden Information—Number of Respondents; 40; Number of Annual Responses 140; Average Burden per Response: 7.77 hours; Total Recordkeeping Burden: 1088 hours—Total Burden—3,721 hours.

Send comments via e-mail to Geerie.Jones@HHS.gov or mail to OS Reports Clearance Office, Room 503H, Hubert H. Humphrey Building, 200 Independence Avenue, SW., Washington DC, 20201. Comments should be received within 60 days of this notice.

Dated: August 14, 2002.
William R. Beldon,
Acting, Deputy Assistant Secretary, Budget.

[FR Doc. 02-21426 Filed 8-21-02; 8:45 am]

BILLING CODE 4150-31-M